DEPARTMENT OF DEFENSE

Office of the Secretary

[Transmittal Nos. 13-47]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-47 with attached transmittal, policy justification, and Sensitivity of Technology.

Dated: October 17, 2013.
Aaron Siegel,
Alternate OSD Federal Register Liaison Officer, Department of Defense.

BILLING CODE 5001-06-P

BILLING CODE 5001-06-C

Transmittal No. 13-47

Notice of Proposed Issuance of Letter of Offer Pursuant to Section 36(b)(1) of the Arms Export Control Act, as amended

(i) Prospective Purchaser: Belgium

(ii) Total Estimated Value:

Major Defense Equipment * | $52 million
Other | $16 million
Total | $68 million

(iii) Description and Quantity or Quantities of Articles or Services Under Consideration for Purchase: 40 AIM-9X-2 Sidewinder Block II All-Up-Round Missiles, 36 CATM-9X-2 Captive Air Training Missiles, 2 CATM-9X-2 Block II Missile Guidance Units, and 10 AIM-9X-2 Block II Tactical Guidance Units, 4 Dummy Air Training Missiles, containers, missile support and test equipment, provisioning, spare and repair parts, personnel training and training equipment, publications and technical data, U.S. Government and contractor technical assistance and other related logistics support, and other related elements of logistics and program support.

(iv) Military Department: Navy (ACX)

(v) Prior Related Cases: None

(vi) Sales Commission, Fee, etc., Paid, Offered, or Agreed To Be Paid: None

(vii) Sensitivity of Technology Contained in the Defense Article or Defense Services Proposed To Be Sold: See Annex attached.

(viii) Date Report Delivered to Congress: 26 September 2013

* as defined in Section 47(6) of the Arms Export Control Act.

Policy Justification

Belgium—AIM-9X-2 SIDEWINDER MISSILES

The Government of Belgium has requested a possible sale of 40 AIM-9X-2 Sidewinder Block II All-Up-Round Missiles, 36 CATM-9X-2 Captive Air Training Missiles, 2 CATM-9X-2 Block II Missile Guidance Units, and 10 AIM-9X-2 Block II Tactical Guidance Units, 4 Dummy Air Training Missiles, containers, missile support and test equipment, provisioning, spare and repair parts, personnel training and training equipment, publications and technical data, U.S. Government and contractor technical assistance and other related logistics support, and other related elements of logistics and program support. The estimated cost is $68 million.

This proposed sale will contribute to the foreign policy and national security of the United States by helping to improve the security of a NATO ally which continues to be an important force for political stability and economic progress in Europe.

The Belgian Air Force (BAF) intends to obtain these AIM-9X missiles as part of an overall military modernization program to better support its own air defense needs and to improve its interoperability with the U.S. and other NATO allies. The BAF will have no difficulty absorbing the AIM-9X missiles into its armed forces.

The proposed sale of this weapon system will not alter the basic military balance in the region.

The principal contractor will be Raytheon Missile Systems Company in Tucson, Arizona. There are no known offset requirements in connection with this potential sale.

Implementation of this proposed sale will require travel of U.S. Government or contractor representatives to Belgium on a temporary basis for program technical support and management oversight.

There will be no adverse impact on U.S. defense readiness as a result of this proposed sale.

Transmittal No. 13-47

Notice of Proposed Issuance of Letter of Offer Pursuant to Section 36(b)(1) Of the Arms Export Control Act

Annex Item No. vii

(vii) Sensitivity of Technology:

1. The AIM-9X-2 Block II Sidewinder Missile represents a substantial increase in missile acquisition and kinematics performance over the AIM-9M and replaces the AIM-9X Block I Missile. The missile includes a high off-boresight seeker, enhanced countermeasure rejection capability, low drag/high angle of attack airframe and the ability to integrate the Helmet Mounted Cueing System. The software algorithms are the most sensitive portion of the AIM-9X-2 missile. The software continues to be modified via a pre-planned product improvement (P³I) program in order to improve its counter-countermeasure capabilities. No software source code or algorithms will be released. The missile is classified as Confidential.

2. The AIM-9X-2 will result in the transfer of sensitive technology and information. The equipment, hardware, and documentation are classified Confidential. The software and operational performance are classified Secret. The seeker/guidance control section and the target detector are Confidential and contain sensitive state-of-the-art technology. Manuals and technical documentation that are necessary or support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, the information could be used to develop countermeasures that might reduce weapon system effectiveness or be used in the development of a system with similar advanced capabilities.

[FR Doc. 2013-24573 Filed 10-21-13; 8:45 am]

BILLING CODE 5001-06-P